DEPARTMENT OF HOMELAND SECURITY

Coast Guard

33 CFR Part 110

[CGD09-03-284]

RIN 2115-AA01

Special Anchorage Area; Madeline Island, WI

AGENCY: Coast Guard, DHS.

ACTION: Notice of proposed rulemaking.

SUMMARY: The Coast Guard proposes to enlarge the existing special anchorage area in Madeline, Wisconsin. This action is being taken at the request of the La Pointe Yacht Club, which, due to low water levels, has lost usable anchorage space. This proposed rule would make additional space available within the special anchorage area.

DATES: Comments must be received March 23, 2004.

ADDRESSES: You may mail comments to Commander (map), Ninth Coast Guard District, 1240 E. Ninth Street, Cleveland, Ohio 44199-2060, or deliver them to room 2069 at the same address between 9 a.m. and 2 p.m., Monday through Friday, except Federal holidays. The telephone number is (216) 902-6056.

Commander, Ninth Coast Guard District Marine Safety Office maintains the public docket for this rulemaking. Comments, and documents indicated in this preamble, will become part of this docket and will be available for inspection or copying at room 2069, Ninth Coast Guard District, between 9 a.m. and 2 p.m., Monday through Friday, except Federal holidays.

FOR FURTHER INFORMATION CONTACT: Commander Michael Gardiner, Chief, Marine Safety Analysis and Policy Branch, Ninth Coast Guard District Marine Safety Office, at (216) 902-6056.

SUPPLEMENTARY INFORMATION:

Request for Comments

We encourage you to participate in this rulemaking by submitting comments and related material. If you do so, please include your name and address, identify the docket number for this rulemaking (CGD09-03-284), indicate the specific section of this document to which each comment applies, and give the reason for each comment.

Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to Chief, Marine Safety Analysis and Policy Branch, Ninth Coast Guard District Marine Safety Office at the address under ADDRESSES explaining why one would be beneficial. If we determine that one would aid this rulemaking, we will hold one at a time and place announced by a later notice in the Federal Register.

Background Information

On April 1, 2003, the La Pointe Yacht Club, Inc. requested that the Coast Guard initiate a rulemaking to increase the size of the Madeline Island, Wisconsin special anchorage area as described in 33 CFR 110.77b. The Commander of the Ninth Coast Guard District is publishing this notice of proposed rulemaking to request comments on the proposed enlargement of this special anchorage area.

The request to increase the size of this special anchorage area is based on four factors. First, the number of boats using the anchorage has increased resulting in a crowding of boats, causing some to anchor outside the anchorage area boundaries. Second, several years of low water have caused boats to move outside the current anchorage area boundaries to find safe depths. Third, boats with drafts deeper then 3 feet cannot safely use the current defined area. Finally, the existing seaward boundary intersects the inside of the fairway leading into the Madeline Island Marina basin.

Discussion of Proposed Rule

The proposed rule would change the boundaries to the following: all water within a line connecting the points starting at 46°46′44.8″ N, 090°47′14.0″ W; then south south-westerly to 46°46′35.5″ N, 090°47′17.0″ W; then south south-easterly to 46°46′27″ N, 090°47′12.8″ W; then east south-easterly to 46°46′22.6″ N, 090°46′58.8″ W; then following the shoreline back to the starting point. These coordinates are based upon North American Datum 1983 (NAD 83). This would extend the anchorage area boundary approximately 300 feet further at the outer most point.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). We expect the economic impact of this proposed rule to be so minimal that a full Regulatory Evaluation under the regulatory policies and procedures of DHS is unnecessary.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This proposed rule only slightly increases the special anchorage area. Normal vessel traffic would not transit this area due to the shallow depths. In addition, vessel traffic can safely pass around this special anchorage area.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact the Ninth Coast Guard District Marine Safety Office, at 1240 East Ninth Street, Cleveland, Ohio, 44199.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have analyzed this proposed rule under Commandant Instruction M16475.lD, which guides the Coast Guard in complying with the National Environmental Policy Act of 1969 (NEPA)(42 U.S.C. 4321-4370f), and have concluded that there are no factors in this case that would limit the use of a categorical exclusion under section 2.B.2 of the Instruction. Therefore, this rule is categorically excluded, under figure 2-1, paragraph (34)(f), of the Instruction, from further environmental documentation.

List of Subjects in 33 CFR Part 110

Anchorage grounds.

For the reason set out in the preamble, the Coast Guard proposes to amend 33 CFR part 110 as follows:

PART 110—ANCHORAGE REGULATIONS

1. The authority citation for part 110 continues to read as follows:

Authority: 33 U.S.C. 471; 1221 through 1236, 2030, 2035, and 2071; 33 CFR 1.05-1(g). Department of Homeland Security Delegation No. 0170.1.

2. Revise § 110.77b to read as follows:

§ 110.77b Madeline Island, Wisconsin

All waters off of La Pointe Harbor, Madeline Island, Wisconsin, encompassed by a line connecting the following points, beginning at 46°46′44.8″ N, 090°47′14.0″ W; then south south-westerly to 46°46′35.5″ N, 090°47′17.0″ W; then south south-easterly to 46°46′27″ N, 090°47′12.8″ W; then east south-easterly to 46°46′22.6″ N, 090°46′58.8″ W; then following the shoreline back to the starting point (NAD 83).

Dated: December 15, 2003.
Ronald F. Silva,
Rear Admiral, U.S. Coast Guard, Commander, Ninth Coast Guard District.

[FR Doc. 03-31728 Filed 12-23-03; 8:45 am]

BILLING CODE 4910-15-P